DEPARTMENT OF THE INTERIOR

Fish and Wildlife Service

[FWS-R1-ES-2017-N097; FXES11140100000-178-FF01E00000]

Proposed Low-Effect Habitat Conservation Plan for the Olympia Subspecies of the Mazama Pocket Gopher, Thurston County, Washington

AGENCY: Fish and Wildlife Service, Interior.

ACTION: Notice of availability; request for comments.

SUMMARY: We, the U.S. Fish and Wildlife Service (Service), received an application from Mr. Steven McLain (applicant) for an Incidental Take Permit (ITP) pursuant to the Endangered Species Act of 1973, as amended (ESA). The applicant requests an ITP that would authorize “take” of the threatened Olympia subspecies of the Mazama pocket gopher incidental to otherwise lawful construction of a single-family home in Thurston County, Washington. The application includes a draft Habitat Conservation Plan (HCP) with measures to minimize and mitigate the impacts of the taking on the covered species. We have also prepared a draft Environmental Action Statement (EAS) for our preliminary determination that the HCP and permit decision may be eligible for categorical exclusion under the National Environmental Policy Act (NEPA). We invite comments from all interested parties regarding the permit application, draft HCP, and the draft EAS.

DATES: To ensure consideration, please submit written comments by September 13, 2017.

ADDRESSES: You may view or download copies of the draft HCP and obtain additional information on the Internet at http://www.fws.gov/wafwo/. To request further information or submit written comments, please use one of the following methods, and note that your information request or comments are in reference to “The McLain HCP”:

• Electronic: wfwocomments@fws.gov.

• U.S. Mail: Public Comments Processing, Attn: FWS-R1-ES-2017-N097; U.S. Fish and Wildlife Service; Washington Fish and Wildlife Office, 510 Desmond Drive SE., Suite 102; Lacey, Washington 98503.

• In-Person Drop-off, Viewing, or Pickup: Call 360-753-5823 to make an appointment (necessary for viewing or picking up documents only) during normal business hours at the above address.

FOR FURTHER INFORMATION CONTACT: Tim Romanski, Conservation Planning and Hydropower Branch Manager, Washington Fish and Wildlife Office, U.S. Fish and Wildlife Service (see ADDRESSES), telephone: 360-753-5823. If you use a telecommunications device for the deaf, please call the Federal Relay Service at 800-877-8339.

SUPPLEMENTARY INFORMATION:

Background

Section 9 of the ESA prohibits “take” of fish and wildlife species listed as endangered or threatened. Under the ESA, the term “take” means to harass, harm, pursue, hunt, shoot, wound, kill, trap, capture, or collect, or to attempt to engage in any such conduct (16 U.S.C. 1532(19)). The term “harm,” as defined in our regulations, includes significant habitat modification or degradation that results in death or injury to listed species by significantly impairing essential behavioral patterns, including breeding, feeding, or sheltering (50 CFR 17.3). The term “harass” is defined in our regulations as to carry out actions that create the likelihood of injury to listed species to such an extent as to significantly disrupt normal behavioral patterns, which include, but are not limited to, breeding, feeding, or sheltering (50 CFR 17.3).

Section 10(a)(1)(B) of the ESA contains provisions that authorize the Service to issue permits to non-federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found in 50 CFR 17.22 and 17.32, respectively.

We received an application from the applicant for an ITP pursuant to Section 10(a)(1)(B) of the ESA. The applicant requests an ITP having a 2-year term that would authorize “take” of the threatened Olympia subspecies of the Mazama pocket gopher (Thomomys mazama pugetensis), hereafter referred to as Olympia pocket gopher, incidental to otherwise lawful construction of one single-family home on land he owns in Thurston County, Washington. The application includes a draft HCP that describes actions the applicant will take to minimize and mitigate the impacts of the taking on covered species.

Proposed Action

The Service proposes to issue the requested 2-year ITP based on the applicant's commitment to implement the draft HCP, if permit issuance criteria are met. Covered activities include construction of the single-family home. The area covered under the draft HCP consists of an approximately one-half acre project development site and an approximately one acre conservation site on land owned by the applicant. Take of the Olympia pocket gopher would occur within the half-acre development site and will be offset by permanently managing an acre of occupied habitat for the covered species on the applicant's land until and unless the take impacts are offset by purchasing equivalent credits from a Service-approved conservation bank for the Olympia pocket gopher.

National Environmental Policy Act Compliance

The proposed issuance of an ITP is a Federal action that triggers the need for compliance with NEPA (42 U.S.C. 4321 et seq.). Pursuant to NEPA, we prepared an Environmental Action Statement (EAS) to analyze the environmental impacts of the proposed Federal action of issuing the requested ITP and implementation of the conservation program under the proposed HCP.

Based on the EAS, we have preliminarily determined that the applicant's proposal, including the proposed mitigation measures, would have minor or negligible effects on the species covered in the HCP. Therefore, we determined that the proposed HCP is eligible for “low-effect” status and qualifies for categorical exclusion under NEPA, as provided by the Department of the Interior NEPA regulations (43 CFR part 46). A low-effect HCP is one involving (1) minor or negligible effects on federally listed or candidate species and their habitat, and (2) minor or negligible effects on other environmental values or resources.

Public Comments

You may submit your comments and materials by one of the methods listed in the ADDRESSES section. We specifically request information, views, and suggestions from interested parties regarding our proposed Federal action, including adequacy of the draft HCP pursuant to the requirements for permits at 50 CFR parts 13 and 17 and adequacy of the EAS pursuant to NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive will be available for public inspection by appointment, during normal business hours, at our Washington Fish and Wildlife Office (see ADDRESSES).

Next Steps

We will evaluate the permit application, the HCP, and any comments received to determine whether the permit application meets the requirements of section 10(a)(1)(B) of the ESA. We will also evaluate whether issuance of the requested permit would comply with section 7 of the ESA by conducting an intra-Service section 7 consultation on anticipated ITP actions. We will use the results of this consultation, in combination with the above findings, in our final analysis to determine whether to issue the ITP. If we determine that all requirements are met, we will issue an ITP under section 10(a)(1)(B) of the ESA to the applicant for the take of the covered species, incidental to otherwise lawful covered activities. We will make the final permit decision no sooner than 30 days after the date of this notice.

Authority

We provide this notice in accordance with the requirements of section 10 of the ESA and NEPA and their implementing regulations (50 CFR 17.32 and 40 CFR 1506.6, respectively).

Dated: June 20, 2017.
Theresa E. Rabot,
Deputy Regional Director, Pacific Region, U.S. Fish and Wildlife Service, Portland, Oregon.

[FR Doc. 2017-17082 Filed 8-11-17; 8:45 am]

BILLING CODE 4333-15-P